ENVIRONMENTAL PROTECTION AGENCY

[EPA-HQ-OPP-2018-0008; FRL-9978-35]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before July 30, 2018.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (RD) (7505P), main telephone number: (703) 305-7090; email address: RDFRNotices@epa.gov, Anita Pease, Antimicrobials Division (AD) (7510P), main telephone number: (703) 305-7090; email address: ADFRNotices@epa.gov. The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

New Uses

1. EPA Registration Number(s): 100-1281 and 100-1254. Docket ID number: EPA-HQ-OPP-2017-0671. Applicant: Syngenta Crop Protection, LLC, P.O. Box 18300, Greensboro, NC 27419. Active ingredient: Mandipropamid. Product type: Fungicide. Proposed uses: Asparagus bean, edible podded; Bean (Phaseolus spp.), edible podded; Bean (Vigna spp.), edible podded; Brassica, leafy greens, subgroup 4-16B; Catjang bean, edible podded; Celtuce; Chinese longbean, edible podded; Citrus, dried pulp; Citrus, oil; Cowpea, edible podded; Florence fennel; French bean, edible podded; Fruit, citrus, group 10-10; Garden bean, edible podded; Goa bean, edible podded; Green bean, edible podded; Guar bean, edible podded; Jackbean, edible podded; Kidney bean, edible podded; Kohlrabi; Lablab bean, edible podded; Leaf petiole vegetable subgroup 22B; Leafy greens subgroup 4-16A; Moth bean, edible podded; Mung bean, edible podded; Navy bean, edible podded; Rice bean, edible podded; Scarlet runner bean, edible podded; Snap bean, edible podded; Sword bean, edible podded; Urd bean, edible podded; Vegetable, brassica, head and stem, group 5-16; Vegetable soybean, edible podded; Velvet bean, edible podded; Wax bean, edible podded; Winged pea, edible podded; Yardlong bean, edible podded. Contact: RD.

2. EPA Registration Number(s): 264-1137 and 264-1169. Docket ID number: EPA-HQ-OPP-2018-0140. Applicant: Bayer CropScience, 2 T.W. Alexander Drive, Research Triangle Park, NC 27709. Active ingredient: Fluoxastrobin. Product type: Fungicide. Proposed Use: Cotton (seed treatment). Contact: RD.

3. EPA Registration Number(s): 352-834 and 352-836. Docket ID number: EPA-HQ-OPP-2017-0674. Applicant: E.I. DuPont de Nemours and Company, P.O. Box 30, Newark, DE 19714. Active ingredient: Penthiopyrad. Product type: Fungicide. Proposed Use(s): New use on Bushberry Subgroup 13-07B and Caneberry Subgroup, 13-07A; Expansion of use on canola, cotton seeds, and sunflower seed to Oilseed group 20; Conversion from 5B to Brassica leafy greens subgroup 4-16B; Conversion from group 12 to Fruit, stone, group 12-12; Conversion from group 4 to Leaf petiole vegetable subgroup 22B, celtuce, and florence fennel; Conversion from group 4 to Leafy greens subgroup 4-16A; Conversion from group 14 to Nut, tree, group 14-12; Conversion from subgroup 5A to Vegetable, brassica, head and stem group 5-16 and kohlrabi. Contact: RD.

4. EPA Registration Number(s): 7969-185, 7969-258, 7969-199, and 7969-251. Docket ID number: EPA-HQ-OPP-2017-0311. Applicant: BASF Corporation, 26 Davis Drive, P.O. Box 13528, Research Triangle Park, NC 27709. Active ingredient: Pyraclostrobin. Product type: Fungicide. Proposed Use(s): Greenhouse use for commercially grown vegetables and production of transplants for the home consumer market on Vegetable, cucurbit, crop group 9; Vegetable, fruiting, crop group 8-10; and Leafy greens subgroup 4-16A; Crop group conversion from Brassica, head and stem, subgroup 5A to Vegetable, brassica head and stem, group 5-16 and kohlrabi; Crop group conversion from Brassica, leafy greens, subgroup 5B to Brassica, leafy greens, subgroup 4-16B; Crop group conversion from Vegetable, leafy, except brassica, group 4 to Leafy greens subgroup 4-16A and Leaf petiole vegetable subgroup 22B and celtuce and florence fennel. Contact: RD.

5. EPA Registration Number(s): 86203-1. Docket ID number: EPA-HQ-OPP-2017-0674. Applicant: Mitsui Chemicals Agro, Inc, P.O. Box 5126, Valdosta, GA 31603-5126. Active ingredient: Penthiopyrad. Product type: Fungicide. Proposed Use(s): New use on Bushberry Subgroup 13-07B and Caneberry Subgroup, 13-07A; Expansion of use on canola, cotton seeds, and sunflower seed to Oilseed group 20; Conversion from 5B to Brassica leafy greens subgroup 4-16B; Conversion from group 12 to Fruit, stone, group 12-12; Conversion from group 4 to Leaf petiole vegetable subgroup 22B, celtuce, and florence fennel; Conversion from group 4 to Leafy greens subgroup 4-16A; Conversion from group 14 to Nut, tree, group 14-12; Conversion from subgroup 5A to Vegetable, brassica, head and stem group 5-16 and kohlrabi. Contact: RD.

Authority: 7 U.S.C. 136 et seq.

Dated: May 31, 2018.
Delores Barber,
Director, Information Technology and Resources Management Division, Office of Pesticide Programs.

[FR Doc. 2018-13947 Filed 6-27-18; 8:45 am]

BILLING CODE 6560-50-P